DEPARTMENT OF THE INTERIOR

Fish and Wildlife Service

Vieques National Wildlife Refuge

AGENCY: Fish and Wildlife Service, Interior.

ACTION: Notice of availability of the Final Comprehensive Conservation Plan and Environmental Impact Statement.

SUMMARY: The Fish and Wildlife Service announces that a Final Comprehensive Conservation Plan and Environmental Impact Statement for Vieques National Wildlife Refuge in Puerto Rico is available for distribution. The plan was prepared pursuant to the National Wildlife Refuge System Improvement Act of 1997, and in accordance with the National Environmental Policy Act of 1969, and describes how the refuge will be managed for the next 15 years. The compatibility determinations for wildlife observation, wildlife photography, and environmental education and interpretation; bicycling, horseback riding, hiking, jogging, and moped/motorcycle riding; and kayaking and canoeing are also available in the plan.

DATES: A Record of Decision may be signed on or after September 21, 2007.

ADDRESSES: A copy of the plan and environmental impact statement is available on compact diskette or hard copy by writing: Oscar Diaz, Refuge Manager, Vieques National Wildlife Refuge, P.O. Box 1527, Vieques, Puerto Rico 00765. The plan and environmental impact statement may also be accessed and downloaded from the Service's Web site address: http://www.fws.gov/southeast/planning/.

FOR FURTHER INFORMATION CONTACT: Gisella Burgos, Telephone: 787/741-2138.

SUPPLEMENTARY INFORMATION: The availability of the Draft Comprehensive Conservation Plan and Environmental Impact Statement for Vieques National Wildlife Refuge for a 60-day public review and comment period was announced in the Federal Register on February 28, 2007 (72 FR 9018). The plan and environmental impact statement identified and evaluated three alternatives for managing the refuge over the next 15 years.

Alternative A, the “No Action” alternative, would have continued current management.

Alternative B would have focused on wildlife and habitat management but would have maintained the existing visitor programs and public uses. Habitat management and monitoring would have been expanded and agreements with research, governmental, and non-governmental organizations would have been developed to provide information needed for the management of forests, grasslands, coastal wetlands, beaches, and listed species and their habitats. In partnership with others, programs would have been developed for management of nesting sea turtle populations on Vieques beaches.

Alternative C, the preferred alternative, will direct the refuge toward a realistic and achievable level of both habitat management and public use and will provide a management program that will address the needs of the resources and, where appropriate and compatible with the refuge purposes, the needs of the community. This alternative will provide for increases in management efforts to restore habitats without diminishing the wildlife values associated with the current conditions. There is also a focus on management activities to benefit threatened and endangered species. This includes the possible reintroduction of species extirpated from Vieques and expansion of populations of species already found on the refuge. Some priority public uses, as identified in the National Wildlife Refuge System Improvement Act of 1997, will be expanded and other uses that are determined to be compatible with the refuge mission may be permitted. Historic and archaeological resources will be stabilized and, where possible, interpretation of their significance and role in the evolution of Vieques Refuge will be provided.

Vieques National Wildlife Refuge, consisting of approximately 17,771 acres (3,100 acres on western Vieques and 14,671 acres on eastern Vieques), was created from former Navy managed lands by congressional actions in 2001 and 2003. The transferred lands are to be managed in accordance with the National Wildlife Refuge System Administration Act of 1966, as amended by the National Wildlife Refuge System Improvement Act of 1997. The refuge lands were historically used for agricultural purposes and more recently for military training activities. As a result, the wildlife habitats and communities are significantly altered and non-native invasive species are common along with remnants of native habitats. As a result of the military training, portions of the refuge contain unexploded ordnance and other contaminants. These areas have been classified as a “superfund site” under the Comprehensive Environmental Response, Compensation, and Liability Act (CERCLA). Cleanup of these portions of the refuge is being conducted by the Navy in accordance with CERCLA. In addition, a Federal Facilities Agreement between the Navy, U.S. Environmental Protection Agency, Fish and Wildlife Service, and the Commonwealth of Puerto Rico will help to guide the cleanup process.

Although the short-term use and management of areas contaminated with unexploded ordnance would be restricted, the alternatives presented were developed with the assumption that these lands would be cleaned of any contaminants that would pose a threat to either the wildlife or visitors to the refuge.

Authority: This notice is published under the authority of the National Wildlife Refuge System Improvement Act of 1997, Public Law 105-57.

Dated: June 14, 2007.
Cynthia K. Dohner,
Acting Regional Director.

[FR Doc. E7-16542 Filed 8-21-07; 8:45 am]

BILLING CODE 4310-55-P